DEPARTMENT OF DEFENSE

GENERAL SERVICES ADMINISTRATION

NATIONAL AERONAUTICS AND SPACE ADMINISTRATION

48 CFR Parts 1 and 52

[FAC 2019-04; Item II; Docket No. 2019-0002; Sequence No. 2]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: August 7, 2019.

FOR FURTHER INFORMATION CONTACT: Ms. Lois Mandell, Regulatory Secretariat Division (MVCB), 1800 F Street NW, 2nd Floor, Washington, DC 20405, 202-501-4755. Please cite FAC 2019-04, Technical Amendments.

SUPPLEMENTARY INFORMATION: In order to update certain elements in 48 CFR parts 1 and 52 this document makes editorial changes to the FAR.

List of Subjects in 48 CFR Parts 1 and 52

Government procurement.

Janet M. Fry,
Director, Federal Acquisition Policy Division, Office of Government-wide Policy.

Therefore, DoD, GSA, and NASA amend 48 CFR parts 1 and 52 as set forth below:

1. The authority citation for 48 CFR parts 1 and 52 continues to read as follows:

Authority: 40 U.S.C. 121(c); 10 U.S.C. chapter 137; and 51 U.S.C. 20113.

PART 1—FEDERAL ACQUISITION REGULATIONS SYSTEM

2. Amend section 1.201-1 by revising paragraph (b)(1) to read as follows:

1.201-1 The two councils.

* * * * *

(b) * * *

(1) Departments of Agriculture, Commerce, Education, Energy, Health and Human Services, Homeland Security, Housing and Urban Development, Interior, Justice, Labor, State, Transportation, Treasury, and Veterans Affairs; and

* * * * *

PART 52—SOLICITATION PROVISIONS AND CONTRACT CLAUSES

52.246-21 [Amended]

3. Amend section 52.246-21 by removing from the date of the clause “(Apr 1984)” and adding “(Mar 1994)” in its place.

[FR Doc. 2019-16407 Filed 8-6-19; 8:45 am]

BILLING CODE 6820-EP-P